FEDERAL COMMUNICATIONS COMMISSION

47 CFR Parts 2 and 90

[ET Docket No. 04-243; FCC 05-69]

Narrowbanding for Private Land Mobile Radio Service

AGENCY: Federal Communications Commission

ACTION: Final rule; correction.

SUMMARY: On April 27, 2005 (70 FR 21652), the Commission published final rules in the Report and Order, which specified the procedures by which forty Private Land Mobile Radio (PLMR) channels, which are located in frequency bands that are allocated primarily for Federal use, are to transition to narrower, more spectrally efficient channels in a process commonly known as “narrowbanding.” This document contains a correction to the effective date in footnote US312 and § 90.20 (e)(6), which was incorrectly stated.

DATES: Effective May 27, 2005.

FOR FURTHER INFORMATION CONTACT: Tom Mooring, Office of Engineering and Technology, (202) 418-2450, email: Tom.Mooring@fcc.gov.

SUPPLEMENTARY INFORMATION: In FR Doc. 05-8338, appearing on pages 21659 and 21660 in the Federal Register of Wednesday, April 27, 2005, the following corrections are made:

1. On page 21659, in the third column, third sentence in footnote US312 the date “April 27, 2019” is corrected to read as “May 27, 2019”.

2. On page 21660, in paragraph (e)(6), in the third column, first sentence the date “April 27, 2019” is corrected to read “May 27, 2019”.

Federal Communications Commission.
Marlene Dortch,
Secretary.

[FR Doc. 05-10336 Filed 5-24-05; 8:45 am]

BILLING CODE 6712-01-U